FEDERAL COMMUNICATIONS COMMISSION

47 CFR Part 73

[DA 03-3338; MB Docket No. 03-12; RM-10627]

Radio Broadcasting Services; Charles Town, WV and Stephens City, VA

AGENCY: Federal Communications Commission.

ACTION: Final rule.

SUMMARY: In response to a Notice of Proposed Rule Making, 68 FR 5860 (February 5, 2003), this document reallots Channel 252A from Charles Town, West Virginia, to Stephens City, Virginia, and provides Stephens City with its first local aural transmission service. The coordinates for Channel 252A at Stephens City are 39-07-30 North Latitude and 78-04-26 West Longitude, with a site restriction of 13.3 kilometers (8.3 miles) east of Stephens City, Virginia.

DATES: Effective December 8, 2003.

FOR FURTHER INFORMATION CONTACT: R. Barthen Gorman, Media Bureau, (202) 418-2180.

SUPPLEMENTARY INFORMATION: This is a synopsis of the Commission's Report and Order, MB Docket No. 03-12, adopted October 22, 2003, and released October 24, 2003. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC 20554, telephone (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Virginia, is amended by adding Stephens City, Channel 252A.

3. Section 73.202(b), the Table of FM Allotments under West Virginia, is amended by removing Charles Town, Channel 252A.

Federal Communications Commission.
John A. Karousos,
Assistant Chief, Audio Division, Media Bureau.

[FR Doc. 03-27820 Filed 11-4-03; 8:45 am]

BILLING CODE 6712-01-P